DEPARTMENT OF COMMERCE

Foreign-Trade Zones Board

Foreign-Trade Zone 189—Kent/Ottawa/Muskegon Counties, Michigan Site Renumbering Notice

Foreign-Trade Zone 189 was approved by the FTZ Board on January 15, 1993 (Board Order 616, 58 FR 6614, 2/1/1993) and currently consists of seven “sites” totaling 236 acres in Kent, Ottawa and Muskegon Counties, Michigan. The current update does not alter the physical boundaries that have previously been approved, but instead involves an administrative renumbering that separates certain non-contiguous sites for record-keeping purposes.

Under this revision, the site list for FTZ 189 will be as follows: Site 1 (8 acres) located at 44th Street and Clay Avenue in the City of Wyoming, Kent County; Site 2 (18 acres) located at 1920 Lakeshore Drive in the City of Muskegon, Muskegon County; Site 3 (64 acres) located at 5353 52nd Street in Cascade Township, Kent County, adjacent to Kent County International Airport; Site 4 (40 acres) located at 500 Mart Street in the City of Muskegon, Muskegon County; Site 5 (5 acres) located at 449 Howard Avenue in Holland Township in Ottawa County; Site 6 (80 acres) located at 48th & Thornapple River Drive in Cascade Township, Kent County; Site 7 (500,000 sq. ft.) located at 1210 and 1218 East Pontaluna Road, Norton Shores, Muskegon County; Site 8 (15 acres) located at 900 Hall Street SW., Grand Rapids, Kent County; and, Site 9 (6 acres) located at 2900 Dixie Street, Grandville, Kent County.

For further information, contact Elizabeth Whiteman at Elizabeth.Whiteman@trade.gov or (202) 482-0473.

Dated: September 20, 2010.
Andrew McGilvray,
Executive Secretary.

[FR Doc. 2010-24033 Filed 9-23-10; 8:45 am]

BILLING CODE P